DEPARTMENT OF VETERANS AFFAIRS

Creating Options for Veterans Expedited Recovery (COVER) Commission, Notice of Meeting

In accordance with the Federal Advisory Committee Act, the Creating Options for Veterans Expedited Recover (COVER) Commission gives notice that a full commission meeting will be held on July 16, 2019.

The purpose of the COVER Commission is to examine the evidence-based therapy treatment model used by the Department of Veterans Affairs (VA) for treating mental health conditions of Veterans and the potential benefits of incorporating complementary and integrative health approaches as standard practice throughout the Department.

On July 16, 2019, the open meeting will be held virtually from 1:00-4:00 p.m. ET via a dedicated phone line for the COVER Commissioners and a listening line for the public. These meetings are for Commissioners to summarize COVER Commission subcommittee activities and findings, receive briefings from external subject matter experts and discuss treatment experiences with Veterans.

The listening line for the public is 1-800-767-1750; access code 83362#. The line will be activated 10 minutes before the call-in session. Listeners are asked to acknowledge themselves as being present by sending an email to COVERCommission@va.gov. Any member of the public seeking additional information should also email COVERCommission@va.gov. The Designated Federal Officer for the Commission is Mr. John Goodrich. He and commission staff will be monitoring and responding to questions or comments sent to this email box. The Committee will also accept written comments which may be sent to the same email box. In the public's communications with the COVER Commission, the writers must identify themselves and state the organizations, associations, or persons they represent.

Dated: June 28, 2019.
LaTonya L. Small,
Federal Advisory Committee Management Officer.

[FR Doc. 2019-14290 Filed 7-3-19; 8:45 am]

BILLING CODE P